TENNESSEE VALLEY AUTHORITY

Notice of Publication of Draft Report Implementing Guidelines for Ensuring and Maximizing the Quality, Objectivity, Utility and Integrity of Information Disseminated by Federal Agencies

AGENCY: Tennessee Valley Authority.

ACTION: Notice of publication of draft report with request for comments.

SUMMARY: On September 28, 2001 the Office of Management and Budget published Guidelines for Ensuring and Maximizing the Quality, Objectivity, Utility and Integrity of Information Disseminated by Federal Agencies. In response to those guidelines, the Tennessee Valley Authority (TVA) has posed a draft report setting forth its proposed information quality guidelines on its Web site at www.tva.gov/infoquality.

(Authority: Section 515, Pub. L. 106-554, 66 FR 49718 (Sept. 28, 2001))

DATES: Effective Date: May 1, 2002.

Comment Date: Comments on TVA's draft report must be submitted on or before June 3, 2002.

ADDRESSES: Please submit comments to Information Quality, 400 West Summit Hill Drive ET-6A, Knoxville, Tennessee 37902.

FOR FURTHER INFORMATION CONTACT: Henry J. Collins, 400 West Summit Hill Drive, WT-8A-K, Knoxville, Tennessee 37902. Telephone 865-632-6127.

Dated: April 26, 2002.
Diane J. Bunch,
Chief Information Officer.

[FR Doc. 02-10828 Filed 5-1-02; 8:45 am]

BILLING CODE 8120-08-M